DEPARTMENT OF EDUCATION

Application of the Revised Version of the Uniform Guidance to Department Grants

AGENCY: Office of Planning, Evaluation and Policy Development, Department of Education.

ACTION: Notice.

SUMMARY: The Secretary announces updates to awardees' Grant Award Notices (GANs) to apply the 2024 revision of the Uniform Administrative Requirements, Cost Principles, And Audit Requirements for Federal Awards the Uniform Guidance to all Department grants that are subject to the Uniform Guidance.

DATES: This change is effective January 16, 2025.

SUPPLEMENTARY INFORMATION: On April 22, 2024, the Office of Management and Budget (OMB) published a final rule in the Federal Register that revised the Uniform Guidance (89 FR 30046). This final rule, effective as of October 1, 2024, provided new flexibilities and due process protections to grantees, and also clarified several grant requirements. In order to ensure that the new flexibilities and due process protections for grantees set out in that revised 2024 guidance apply uniformly to Department grantees, we have updated the terms and conditions of Department grants to clarify that the revised Uniform Guidance (89 FR 30136, April 22, 2024) is the version that applies to all Department grants that are subject to the Uniform Guidance.

Specifically, the Department is adding the following condition to Box 10 of its Grant Award Notifications (GANs):

By the drawdown of funds under this GAN, the grantee accepts that this award is subject to the requirements of the Uniform Administrative Requirements, Cost Principles and Audit Requirements for Federal Awards; Title 2 CFR part 200 as revised at 89 FR 30136-30208 (April 22, 2024).

While grantees will not automatically receive a new printed GAN, the updated Box 10 and this notice supersede any previous GAN or notice that applied an earlier version of the Uniform Guidance. Grantees are not required to take any action other than continuing to draw down funds to take advantage of this change but are encouraged to maintain a copy of this notice within their grant files as documentation for grant management and auditing purposes.

Electronic Access to This Document: The official version of this document is the document published in the Federal Register. You may access the official edition of the Federal Register and the Code of Federal Regulations at www.govinfo.gov. At this site, you can view this document, as well as all other Department documents published in the Federal Register, in text or Portable Document Format (PDF). To use PDF, you must have Adobe Acrobat Reader, which is available free at this site.

You may also access Department documents published in the Federal Register by using the article search feature at www.federalregister.gov. Specifically, through the advanced search feature at this site, you can limit your search to documents published by the Department.

Program Authority: 2 CFR part 200 as adopted at 89 FR 30046 (April 22, 2024); 2 CFR 3474.

Roberto Rodriguez,
Assistant Secretary of Planning, Evaluation and Policy Development.

[FR Doc. 2025-01050 Filed 1-14-25; 8:45 am]

BILLING CODE 4000-01-P